DEPARTMENT OF LABOR

Employment and Training Administration

[TA-W-70,303]

Bentex Mills Inc. Greensboro, NC; Notice of Termination of Investigation

Pursuant to Section 223 of the Trade Act of 1974, as amended, an investigation was initiated on May 20, 2009 in response to a worker petition filed on behalf of workers of Bentex Mills Inc., Greensboro, North Carolina.

The petitioner has requested that the petition be withdrawn. Consequently, the investigation has been terminated.

Signed in Washington, DC, this 17th day of July 2009.
Richard Church,
Certifying Officer, Division of Trade Adjustment Assistance.

[FR Doc. E9-18178 Filed 7-29-09; 8:45 am]

BILLING CODE 4510-FN-P